SECURITIES AND EXCHANGE COMMISSION

[File No. 500-1]

In the Matter of: BP International, Inc., CyGene Laboratories, Inc., Delek Resources, Inc., Flooring America, Inc., International Diversified Industries, Inc., Nova Biogenetics, Inc., and Tube Media Corp. (The); Order of Suspension of Trading

June 16, 2011.

It appears to the Securities and Exchange Commission that there is a lack of current and accurate information concerning the securities of BP International, Inc. because it has not filed any periodic reports since the period ended February 28, 2006.

It appears to the Securities and Exchange Commission that there is a lack of current and accurate information concerning the securities of CyGene Laboratories, Inc. because it has not filed any periodic reports since the period ended March 31, 2005.

It appears to the Securities and Exchange Commission that there is a lack of current and accurate information concerning the securities of Delek Resources, Inc. because it has not filed any periodic reports since the period ended March 31, 2007.

It appears to the Securities and Exchange Commission that there is a lack of current and accurate information concerning the securities of Flooring America, Inc. because it has not filed any periodic reports since the period ended February 5, 2000.

It appears to the Securities and Exchange Commission that there is a lack of current and accurate information concerning the securities of International Diversified Industries, Inc. because it has not filed any periodic reports since the period ended September 30, 1998.

It appears to the Securities and Exchange Commission that there is a lack of current and accurate information concerning the securities of Nova Biogenetics, Inc. because it has not filed any periodic reports since the period ended June 30, 2006.

It appears to the Securities and Exchange Commission that there is a lack of current and accurate information concerning the securities of Tube Media Corp. (The) because it has not filed any periodic reports since the period ended September 30, 2006.

The Commission is of the opinion that the public interest and the protection of investors require a suspension of trading in the securities of the above-listed companies. Therefore, it is ordered, pursuant to Section 12(k) of the Securities Exchange Act of 1934, that trading in the securities of the above-listed companies is suspended for the period from 9:30 a.m. E.D.T. on June 16, 2011, and terminating at 11:59 p.m. E.D.T. on June 29, 2011.

By the Commission.
Jill M. Peterson,
Assistant Secretary.

[FR Doc. 2011-15396 Filed 6-16-11; 4:15 pm]

BILLING CODE 8011-01-P